DEPARTMENT OF ENERGY

Federal Energy Regulatory Commission

Combined Notice of Filings

Take notice that the Commission has received the following Natural Gas Pipeline Rate and Refund Report filings:

Filings Instituting Proceedings

Docket Numbers: RP22-692-000.

Applicants: Vector Pipeline L.P.

Description: Annual Fuel Use Report for 2021 of Vector Pipeline L.P.

Filed Date: 3/8/22.

Accession Number: 20220308-5168.

Comment Date: 5 p.m. ET 3/21/22.

Docket Numbers: RP22-693-000.

Applicants: Transcontinental Gas Pipe Line Company, LLC.

Description: § 4(d) Rate Filing: Rate Schedule S-2 Tracker Filing eff 2/1/2022 to be effective 2/1/2022.

Filed Date: 3/10/22.

Accession Number: 20220310-5134.

Comment Date: 5 p.m. ET 3/22/22.

Docket Numbers: RP22-694-000.

Applicants: Guardian Pipeline, L.L.C.

Description: § 4(d) Rate Filing: Negotiated Rate Pal—Remove Mercuria Agreement GN0810 to be effective 4/11/2022.

Filed Date: 3/11/22.

Accession Number: 20220311-5017.

Comment Date: 5 p.m. ET 3/23/22.

Docket Numbers: RP22-695-000.

Applicants: Empire Pipeline, Inc.

Description: § 4(d) Rate Filing: Fuel Tracker (Empire Tracking Supply Storage 2022) to be effective 4/1/2022.

Filed Date: 3/11/22.

Accession Number: 20220311-5063.

Comment Date: 5 p.m. ET 3/23/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 11, 2022.
Kimberly D. Bose,
Secretary.

[FR Doc. 2022-05644 Filed 3-16-22; 8:45 am]

BILLING CODE 6717-01-P